DEPARTMENT OF ENERGY

Federal Energy Regulatory Commission

[Project No. 2177-041]

Georgia Power Company; Notice of Availability of Draft Environmental Assessment

January 31, 2001.

In accordance with the National Environmental Policy Act of 1969 and the Federal Energy Regulatory Commission's (Commission's) regulations, the Office of Energy Projects has reviewed the application filed August 24, 2000, requesting the Commission's authorization to permit the City of Columbus Water Works (CWW) to withdraw up to 90.0 million gallons per day (MGD) from Lake Oliver reservoir, and has prepared a Draft Environmental Assessment (Draft EA) for the proposed and alternative actions.

The proposed water withdrawal, which is equivalent to approximately 140 cubic feet per second, is needed to provide treated water for domestic and industrial consumption in the Columbus, Georgia region. CWW's existing intake and pumping station at Lake Oliver are able to accommodate the withdrawal of 90 MGD; consequently, the proposed action would not involve any land-disturbing or new construction activities on project lands.

Copies of the Draft EA can be viewed at the Commission's Public Reference Room, Room 2A, 888 First Street, NE., Washington, DC 20426, or by calling (202) 208-1371. The document also may be viewed on the Web at www.ferc.fed.us/online/rims.htm. Call (202) 208-2222 for assistance.

Any comments on the Draft EA should be filed within 30 days from the date of this notice and should be addressed to Dave Boergers, Secretary, Federal Energy Regulatory Commission, 888 First Street, NE., Washington, DC 20426. Please affix “Lake Oliver Water Withdrawal, Project No. 2177-041” to the first page of your comments. Comments and protests may be filed electronically via the internet in lieu of paper. See, 18 CFR 385.2001(a)(1)(iii) and the instructions on the Commission's web site at http://www.ferc.fed.us/efi/doorbell.htm.

For further information, please contact Jim Haimes, staff environmental protection specialist, at (202) 219-2780 or at his E-mail address: james.haimes@ferc.fed.us.

David P. Boergers,
Secretary.

[FR Doc. 01-3000 Filed 2-5-01; 8:45 am]

BILLING CODE 6717-01-M